DEPARTMENT OF ENERGY

Federal Energy Regulatory Commission

[Docket No. RP06-72-004]

Northern Border Pipeline Company; Notice of Compliance Filing

January 5, 2006.

Take notice that on December 28, 2006, Northern Border Pipeline Company (Northern Border) tendered for filing to become part of its FERC Gas Tariff, First Revised Volume No. 1, the following tariff sheets to be effective January 1, 2007:

Ninth Revised Sheet No. 201

First Revised Sheet No. 300H.04

First Revised Sheet No. 300I

On September 18, 2006, Northern Border filed a Stipulation and Agreement (Stipulation) in Northern Border's rate case proceeding at Docket No. RP06-72-000. In an order dated November 21, 2006 (117 FERC ¶ 61,217), the Commission approved the Stipulation. As provided for in Articles XII and XIII of the Stipulation, Northern Border is filing compliance tariff sheets that are necessary after the issuance of the Commission's Order approving the Stipulation to implement the tariff revisions shown in Appendix B of the Stipulation.

Northern Border has served a copy of this filing upon all parties of record in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E7-289 Filed 1-11-07; 8:45 am]

BILLING CODE 6717-01-P